DEPARTMENT OF ENERGY

Federal Energy Regulatory Commission

[Docket No. ER00-2844-000]

Ameren Services Company; Notice of Filing

June 16, 2000.

Take notice that on June 7, 2000, Ameren Services Company (ASC), tendered for filing Service Agreements for Non-Firm Point-to-Point Transmission Services between ASC and Amerada Hess Corporation, Connectiv Energy Supply, Inc. and Allegheny Energy Supply Company, LLC (the parties). ASC asserts that the purpose of the Agreements is to permit ASC to provide transmission service to the parties pursuant to Ameren's Open Access Transmission Tariff.

Any person desiring to be heard or to protest said application should file a Motion to Intervene or Protest with the Federal Energy Regulatory Commission, 888 First Street, NE, Washington, DC 20426, in accordance with Rules 221 and 214 of the Commission's Rules of Practice and Procedure (18 CFR 385.211 and 385.214). All such motions or protests must be filed on or before June 26, 2000. Protests will be considered by the Commission in determining the appropriate action to be taken, but will not serve to make protestants parties to the proceedings. Any person wishing to become a party must file a Petition to Intervene. Copies of this filing are on file with the Commission and are available for public inspection.

David P. Boergers,
Secretary.

[FR Doc. 00-15736 Filed 6-21-00; 8:45 am]

BILLING CODE 6717-01-M